DEPARTMENT OF TRANSPORTATION

Federal Aviation Administration

14 CFR Part 39

[Docket No. FAA-2007-28159; Directorate Identifier 2006-NM-257-AD; Amendment 39-15156; AD 2007-16-17]

RIN 2120-AA64

Airworthiness Directives; Airbus Model A300-600 Series Airplanes and Model A310 Series Airplanes

AGENCY: Federal Aviation Administration (FAA), Department of Transportation (DOT).

ACTION: Final rule.

SUMMARY: The FAA is superseding an existing airworthiness directive (AD), which applies to certain Airbus Model A300-600, A310-200, and A310-300 series airplanes. That AD currently requires inspecting for certain serial numbers on elevators, and doing a detailed inspection, visual inspection with a low-angle light, and tap-test inspection of the upper and lower surfaces of the external skins on certain identified elevators for any damage (i.e., debonding of the graphite fiber reinforced plastic/Tedlar film protection, bulges, debonding of the honeycomb core to the carbon fiber reinforced plastic, abnormal surface reflections, and torn-out plies), and doing corrective actions if necessary. This new AD also requires inspecting for damage of the identified elevators in accordance with a new repetitive inspection program, at new repetitive intervals; and would provide an optional terminating action for the repetitive inspections. This AD results from reports of damage caused by moisture/water inside the elevator. We are issuing this AD to detect and correct debonding of the skins on the elevators, which could cause reduced structural integrity of an elevator and reduced controllability of the airplane.

DATES: This AD becomes effective September 18, 2007.

The Director of the Federal Register approved the incorporation by reference of certain publications listed in the AD as of September 18, 2007.

On February 3, 2006 (70 FR 77301, December 30, 2005), the Director of the Federal Register approved the incorporation by reference of Airbus All Operators Telex A300-600-55A6032, dated June 23, 2004; and Airbus All Operators Telex A310-55A2033, dated June 23, 2004.

ADDRESSES: You may examine the AD docket on the Internet at http://dms.dot.gov or in person at the U.S. Department of Transportation, Docket Operations, M-30, West Building Ground Floor, Room W12-140, 1200 New Jersey Avenue, SE., Washington, DC.

Contact Airbus, 1 Rond Point Maurice Bellonte, 31707 Blagnac Cedex, France, for service information identified in this AD.

FOR FURTHER INFORMATION CONTACT: Tom Stafford, Aerospace Engineer, International Branch, ANM-116, FAA, Transport Airplane Directorate, 1601 Lind Avenue, SW., Renton, Washington 98057-3356; telephone (425) 227-1622; fax (425) 227-1149.

SUPPLEMENTARY INFORMATION:

Examining the Docket

You may examine the AD docket on the Internet at http://dms.dot.gov or in person at the Docket Operations office between 9 a.m. and 5 p.m., Monday through Friday, except Federal holidays. The Docket Operations office (telephone (800) 647-5527) is located on the ground floor of the West Building at the DOT street address stated in the ADDRESSES section.

Discussion

The FAA issued a notice of proposed rulemaking (NPRM) to amend 14 CFR part 39 to include an AD that supersedes AD 2005-26-17, amendment 39-14438 (70 FR 77301, December 30, 2005). The existing AD applies to certain Airbus Model A300-600, A310-200, and A310-300 series airplanes. That NPRM was published in the Federal Register on May 16, 2007 (72 FR 27493). That NPRM proposed to continue to require inspecting for certain serial numbers on elevators, and doing a detailed inspection, visual inspection with a low-angle light, and tap-test inspection of the upper and lower surfaces of the external skins on certain identified elevators for any damage (i.e., debonding of the graphite fiber reinforced plastic (GFRP)/Tedlar film protection, bulges, debonding of the honeycomb core to the carbon fiber reinforced plastic, abnormal surface reflections, and torn-out plies), and doing corrective actions if necessary. That NPRM also proposed to require inspecting for damage of the identified elevators in accordance with a new repetitive inspection program, at new repetitive intervals; and would provide an optional terminating action for the repetitive inspections.

Comments

We provided the public the opportunity to participate in the development of this AD. No comments have been received on the NPRM or on the determination of the cost to the public.

Clarification of Alternative Method of Compliance (AMOC) Paragraph

We have revised this action to clarify the appropriate procedure for notifying the principal inspector before using any approved AMOC on any airplane to which the AMOC applies.

Conclusion

We have carefully reviewed the available data and determined that air safety and the public interest require adopting the AD with the change described previously. We have determined that this change will neither increase the economic burden on any operator nor increase the scope of the AD.

Interim Action

We consider this AD interim action. We are currently considering requiring the optional terminating action of replacing the external GFRP/Tedlar film with an application of pore filler on the whole elevator external surface, which would constitute terminating action for the repetitive inspections required by this AD.

Costs of Compliance

This AD affects about 142 airplanes of U.S. registry. The following table provides the estimated costs for U.S. operators to comply with this AD. The average labor rate is $80 per work hour.

Estimated Costs
Action | Work hours | Parts | Cost per airplane | Fleet cost
Inspection for serial number (required by AD 2005-26-17) | 1 | $0 | $80 | $11,360.
Repetitive inspections (required by AD 2005-26-17) | 3 | 0 | $240, per inspection cycle | $34,080, per inspection cycle.
New repetitive inspection program (new action) | Between 8 and 12 | 0 | Between $640 and $960, per inspection cycle | Between $90,880 and $136,320, per inspection cycle.
Replacement (optional terminating/new action) | 48 | 90 | $3,930 | $558,060.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-14438 (70 FR 77301, December 30, 2005) and by adding the following new airworthiness directive (AD):

2007-16-17 Airbus: Amendment 39-15156. Docket No. FAA-2007-28159; Directorate Identifier 2006-NM-257-AD.

Effective Date

(a) This AD becomes effective September 18, 2007.

Affected ADs

(b) This AD supersedes AD 2005-26-17.

Applicability

(c) This AD applies to Airbus Model A300-600 series airplanes and Model A310 series airplanes, certificated in any category, equipped with carbon fiber reinforced plastic (CFRP) elevator skin panels, modified in accordance with Airbus Service Bulletin A310-55-2019 or A300-55-6016 (Airbus Modification 10861) with graphite fiber reinforced plastic (GFRP)/Tedlar film as external protection, with part numbers (P/Ns) and serial numbers (S/Ns) identified in Airbus Service Bulletin A300-55-6039 or A310-55-2040, both dated June 7, 2006.

Unsafe Condition

(d) This AD results from reports of damage caused by moisture/water inside the elevator. We are issuing this AD to detect and correct debonding of the skins on the elevators, which could cause reduced structural integrity of an elevator and reduced controllability of the airplane.

Compliance

(e) You are responsible for having the actions required by this AD performed within the compliance times specified, unless the actions have already been done.

Restatement of the Requirements of AD 2005-26-17

Inspection for Serial Number, Repetitive Inspections, and Corrective Actions

(f) Within 600 flight hours after February 3, 2006 (the effective date of AD 2005-26-17), inspect to determine if the S/N of the elevator is listed in Airbus All Operators Telex (AOT) A300-600-55A6032, dated June 23, 2004, or Airbus Service Bulletin A300-55-6039, dated June 7, 2006 (for Model A300-600 series airplanes); or in Airbus AOT A310-55A2033, dated June 23, 2004, or Airbus Service Bulletin A310-55-2040, dated June 7, 2006 (for Model A310 series airplanes).

(1) If the S/N does not match any S/N on either AOT or service bulletin S/N list, no further action is required by this paragraph.

(2) If the S/N matches a S/N listed in an AOT or service bulletin, before further flight, do the actions listed in Table 1 of this AD, and any corrective action as applicable, in accordance with Airbus AOT A300-600-55A6032, dated June 23, 2004; or Airbus AOT A310-55A2033, dated June 23, 2004; as applicable. Repeat the inspections thereafter at intervals not to exceed 600 flight hours until the inspection required by paragraph (j) of this AD is accomplished. Do applicable corrective actions before further flight.

Table 1.—Repetitive Inspections
Do a— | Of the— | For any—
Detailed inspection | Elevator upper and lower external skin surfaces | Damage (i.e., breaks in the graphite fiber reinforced plastic (GFRP)/Tedlar film protection, debonded GFRP/Tedlar film protection, bulges, torn-out plies).
Visual inspection with a low-angle light | Elevator upper and lower external skin surfaces | Differences in the surface reflection.
Tap-test inspection | Upper and lower external skin surfaces of the honeycomb core panels in the elevator | Honeycomb core that has debonded from the carbon fiber reinforced plastic (CFRP).

Note 1: For the purposes of this AD, a detailed inspection is “an intensive examination of a specific item, installation, or assembly to detect damage, failure, or irregularity. Available lighting is normally supplemented with a direct source of good lighting at an intensity deemed appropriate. Inspection aids such as mirrors magnifying lenses, etc. may be necessary. Surface cleaning and elaborate procedures may be required.”

Repair Approval

(g) Where the AOTs specified in paragraph (f) of this AD say to contact the manufacturer for repair instructions, or an alternative inspection method: Before further flight, repair or do the alternative inspection method according to a method approved by either the Manager, International Branch, ANM-116, FAA, Transport Airplane Directorate; or the Direction Gonorale de l'Aviation Civile (DGAC) (or its delegated agent), or the European Aviation Safety Agency (EASA) (or its delegated agent).

Parts Installation

(h) As of February 3, 2006, no carbon fiber elevator having part number (P/N) A55276055000 (left-hand side) or P/N A55276056000 (right-hand side) may be installed on any airplane unless it is inspected according to paragraph (f) of this AD; or according to paragraph (j) of this AD.

No Reporting Required for AOT Inspections

(i) Although the AOTs referenced in paragraph (f) of this AD specify to submit inspection reports to the manufacturer, this AD does not include that requirement.

New Requirements of This AD

Revised Inspection Program

(j) For airplanes with affected serial numbers identified in paragraph (f) of this AD: Except as provided by paragraph (k) of this AD, within 2,000 flight cycles or 18 months after the effective date of this AD, whichever occurs earlier, do a detailed inspection of the external surfaces of the GFRP/Tedlar film protection on the upper and lower skin panels to detect damage of the film, and a thermographic inspection of the upper and lower skin panels to detect any potential water indication inside the panel's honeycomb core; do all applicable related investigative/corrective actions before further flight; and repair the external GFRP/Tedlar film with pore filler. Do all actions in accordance with the Accomplishment Instructions of Airbus Service Bulletin A300-55-6039 (for Model A300-600 series airplanes), or Airbus Service Bulletin A310-55-2040 (for Model A310 series airplanes); both including Appendix 01, both dated June 7, 2006. Repeat the inspections thereafter at intervals not to exceed 2,000 flight cycles or 18 months, whichever occurs earlier. Where the service bulletin says to contact the manufacturer for repair instructions: Before further flight, repair or do the alternative inspection method according to a method approved by either the Manager, International Branch, ANM-116; or the EASA (or its delegated agent). Doing the inspections in accordance with this paragraph terminates the repetitive inspection requirements of paragraph (f) of this AD.

(k) The maximum time between the inspection required by paragraph (f) of this AD and the first inspection done in accordance with paragraph (j) of this AD must be no greater than: For the thermographic inspection, 2,500 flight hours after the last thermographic inspection done in accordance with the applicable AOT specified in paragraph (f) of this AD; and for the tap test, 600 flight hours after the last tap test inspection done in accordance with the applicable AOT specified in paragraph (f) of this AD.

Report

(l) Submit a report of the findings (both positive and negative) of the inspections required by paragraph (j) of this AD to Airbus, 1 Rond Point Maurice Bellonte, 31707 Blagnac Cedex, France, at the applicable time specified in paragraph (l)(1) or (l)(2) of this AD. The report must include the information in Appendix 01 of Airbus Service Bulletin A300-55-6039 or Airbus Service Bulletin A310-55-2040, both dated June 7, 2006, as applicable. Under the provisions of the Paperwork Reduction Act (44 U.S.C. 3501 et seq.), the Office of Management and Budget (OMB) has approved the information collection requirements contained in this AD and has assigned OMB Control Number 2120-0056.

(1) If the inspection was done after the effective date of this AD: Submit the report within 30 days after the inspection.

(2) If the inspection was done prior to the effective date of this AD: Submit the report within 30 days after the effective date of this AD.

Optional Terminating Action

(m) Replacing the external GFRP/Tedlar film with an application of pore filler on the whole elevator external surface in accordance with Airbus Service Bulletin A300-55-6040 (for Model A300-600 series airplanes), or Airbus Service Bulletin A310-55-2041 (for Model A310 series airplanes), both dated June 5, 2006, terminates the repetitive inspection requirements of paragraph (j) of this AD, provided the replacement is done before further flight after accomplishment of Airbus Service Bulletins A310-55-2040 and A300-55-6039, both dated June 7, 2006.

Alternative Methods of Compliance (AMOCs)

(n)(1) The Manager, International Branch, ANM-116, has the authority to approve AMOCs for this AD, if requested in accordance with the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

(3) AMOCs approved previously in accordance with AD 2005-26-17 are approved as AMOCs with the corresponding provisions of this AD.

Related Information

(o) EASA airworthiness directive 2006-0289, dated November 2, 2006, also addresses the subject of this AD.

Material Incorporated by Reference

(p) You must use the service documents identified in Table 2 of this AD to perform the actions that are required by this AD, unless the AD specifies otherwise.

Table 2.—Required Material Incorporated by Reference
Airbus service information | Date
All Operators Telex A300-600-55A6032 | June 23, 2004.
All Operators Telex A310-55A2033 | June 23, 2004.
Service Bulletin A300-55-6039, including Appendix 01 | June 7, 2006.
Service Bulletin A310-55-2040, including Appendix 01 | June 7, 2006.

If you accomplish the optional actions specified in this AD, you must use the service documents identified in Table 3 of this AD to perform those actions, unless the AD specifies otherwise.

Table 3.—Optional Material Incorporated by Reference
Airbus service information | Date
Service Bulletin A300-55-6040 | June 5, 2006.
Service Bulletin A310-55-2041 | June 5, 2006.

(1) The Director of the Federal Register approved the incorporation by reference of the documents identified in Table 4 of this AD in accordance with 5 U.S.C. 552(a) and 1 CFR part 51.

Table 4.—New Material Incorporated by Reference
Airbus service information | Date
Service Bulletin A300-55-6039, including Appendix 01 | June 7, 2006.
Service Bulletin A300-55-6040 | June 5, 2006.
Service Bulletin A310-55-2040, including Appendix 01 | June 7, 2006.
Service Bulletin A310-55-2041 | June 5, 2006.

(2) On February 3, 2006 (70 FR 77301, December 30, 2005), the Director of the Federal Register approved the incorporation by reference of the service documents identified in Table 5 of this AD.

Table 5.—Material Previously Incorporated by Reference
Airbus service information | Date
All Operators Telex A300-600-55A6032 | June 23, 2004.
All Operators Telex A310-55A2033 | June 23, 2004.

(3) Contact Airbus, 1 Rond Point Maurice Bellonte, 31707 Blagnac Cedex, France, for a copy of this service information. You may review copies at the FAA, Transport Airplane Directorate, 1601 Lind Avenue, SW., Renton, Washington; or at the National Archives and Records Administration (NARA). For information on the availability of this material at NARA, call 202-741-6030, or go to: http://www.archives.gov/federal-register/cfr/ibr-locations.html.

Issued in Renton, Washington, on August 2, 2007.
Ali Bahrami,
Manager, Transport Airplane Directorate, Aircraft Certification Service.

[FR Doc. E7-15589 Filed 8-13-07; 8:45 am]

BILLING CODE 4910-13-P